DEPARTMENT OF THE INTERIOR

Bureau of Reclamation

[DES00-59]

San Luis and Delta-Mendota Water Authority; Grassland Bypass Project, Fresno, Merced, and Stanislaus Counties, California

AGENCY: Bureau of Reclamation, Interior

ACTION: Notice of availability of the Draft Environmental Impact Report/Draft Environmental Impact Statement (Draft EIR/EIS)

SUMMARY: Pursuant to the National Environmental Policy Act and the California Environmental Quality Act, the Bureau of Reclamation (Reclamation) and the San Luis and Delta-Mendota Water Authority (Authority) have prepared a joint Draft EIR/EIS for the renewal of the Grassland Bypass Project through 2009.

The purposes of the Proposed Project are to (1) continue separation of unusable agricultural drainwater discharged from the Grassland Drainage Area from wetland water supply conveyance channels for the period 2001-2009, and (2) facilitate drainage management that maintains the viability of agriculture in the Grassland Drainage Area and promote continuous improvement in water quality in the San Joaquin River. The Draft EIR/EIS addresses the potential environmental impacts expected to result from renewal of this Project through 2009.

DATES: Submit written comments on the Draft EIR/EIS on or before Tuesday, February 27, 2001. Comments may be submitted to Reclamation or the Authority at the addresses provided below. Three public hearings on the Draft EIR/EIS will be held on February 2, February 6, and February 7, 2001, at the addresses below.

ADDRESSES: Three public hearings will be held:

• Friday, February 2, 2001, 1:00 p.m., at the Miller and Lux Building, 1st Floor Conference Room, 830 6th Street, Los Banos, California 93635

• Tuesday, February 6, 2001, 7:00 p.m., at Board Room, Contra Costa Water District, 1331 Concord Avenue, Concord, California 94520

• Wednesday, February 7, 2001, 1:00 p.m., Best Western Expo Inn, 1413 Howe Avenue, Sacramento, California 95825

Written comments on the Draft EIR/EIS should be addressed to Mr. Michael Delamore, Bureau of Reclamation, 1213 N Street, Fresno, California 93721, or Mr. Joe McGahan, Regional Drainage Coordinator, Summers Engineering, Inc., PO Box 1122, Hanford, California 93232. Copies of the Draft EIR/EIS may be requested from Mr. Delamore at the above address or by calling (559) 487-5133. See Supplementary Information section for locations where copies of the Draft EIR/EIS are available for public inspection.

Our practice is to make comments, including names and home addresses of respondents, available for public review. Individual respondents may request that we withhold their home address from public disclosure, which we will honor to the extent allowable by law. There also may be circumstances in which we would withhold a respondent's identity from public disclosure, as allowable by law. If you wish us to withhold your name and/or address, you must state this prominently at the beginning of your comment. We will make all submissions from organizations or businesses, and from individuals identifying themselves as representatives or officials of organizations or businesses, available for public disclosure in their entirety.

FOR FURTHER INFORMATION CONTACT: For additional information, please contact Mr. Michael Delamore at (559) 487-5039, TDD (559) 487-5933, or e-mail: mdelamore@mp.usbr.gov; or Mr. Joe McGahan at (559) 582-9237 or e-mail jmcgahan@summerseng.com.

SUPPLEMENTARY INFORMATION: The current Grassland Bypass Project has operated since 1996. It has significantly improved the quality of water in more than 93 miles of channels used to deliver water to wetland habitat areas in central California. In addition, the action has prompted formation of a regional drainage entity with a program of innovative and aggressive drainage management techniques to meet selenium load values in the San Joaquin River. For example, the group was the first to obtain Waste Discharge Requirements from the California Regional Water Quality Control Board to address non-point-source agricultural drainage discharges and has developed a load trading program to regionally adjust selenium discharges. This work has taken advantage of state and federal funding programs, which have greatly served to accelerate drainage accomplishments.

Under the Proposed Action, unusable agricultural drainwater from about 98,000 acres of prime farmland would continue to be separated from 93 miles of wetland water supply channels and conveyed to Mud Slough, a tributary of the San Joaquin River. This would occur between October 1, 2001, and December 31, 2009.

In the Draft EIR/EIS, the Proposed Action is compared with two alternatives: a No-Project Alternative, and the Mud Slough Bypass Alternative that would be the Grassland Bypass Project plus the construction of a short facility that would convey drainwater directly to the San Joaquin River. The latter would remove drainwater from six additional miles of Mud Slough and discharge it into the San Joaquin River downstream of its confluence with the Merced River.

Under both the Proposed Action and the Mud Slough Bypass alternatives, the volume and concentration of this discharge would be progressively reduced to meet new water quality requirements in the river that will become effective in 2005 and 2010.

Copies of the Draft EIR/EIS are available for public inspection and review at the following locations:

• San Luis & Delta-Mendota Water Authority, 800 6th Street, Los Banos, California 93635; telephone (209) 826-9696

• Bureau of Reclamation, South-Central California Area Office, 1243 N Street, Fresno, California 93721; telephone (559) 487-5116

• Bureau of Reclamation, Public Affairs Office, 2800 Cottage Way, Sacramento, California 95825; telephone (916) 978-5100

• Fresno County Public Library, Government Publications, 2420 Mariposa Street, Fresno, California 93721; telephone (559) 488-3198

• Merced County Public Library, Los Banos Branch, 1312 South 17th Street, Los Banos, California 93635; telephone (209) 826-5254

• University of California, Berkeley, Water Resources Center Archives, 410 O'Brien Hall, Berkeley, California 94720; telephone (510) 642-2666

• Bureau of Reclamation, Office of Policy, Room 7456, 1849 C Street NW, Washington DC 20240; telephone (202) 208-4662

Hearing Process Information

The purpose of the three hearings is to provide the public with an opportunity to comment on environmental issues addressed in the Draft EIR/EIS. Written comments will also be accepted.

Dated: December 18, 2000.
Lester A. Snow,
Regional Director.

[FR Doc. 00-32828 Filed 12-22-00; 8:45 am]

BILLING CODE 4310-MN-P